DEPARTMENT OF ENERGY

Federal Energy Regulatory Commission

[Project No. 14560-000]

Borough of Weatherly; Notice of Preliminary Permit Application Accepted for Filing and Soliciting Comments, Motions To Intervene, and Competing Applications

On November 4, 2013, the Borough of Weatherly (Borough) filed an application for a preliminary permit, pursuant to section 4(f) of the Federal Power Act (FPA), proposing to study the feasibility of the Francis E. Walter Dam and Reservoir (Francis Walter Project or project) to be located at the U.S. Army Corps of Engineers' (Corps) Francis E. Walter Dam on the Lehigh River in Luzerne County, Pennsylvania. The sole purpose of a preliminary permit, if issued, is to grant the permit holder priority to file a license application during the permit term. A preliminary permit does not authorize the permit holder to perform any land-disturbing activities or otherwise enter upon lands or waters owned by others without the owners' express permission.

The Borough's permit application is filed in competition with Mid-Atlantic Hydro, LLC's proposed Francis E. Walter Hydroelectric Project No. 14549-000, which was publicly noticed September 25, 2013. The deadline for filing competing applications was November 24, 2013. The Borough's competing permit application is timely filed.

The proposed project would consist of the following: (1) A concrete reinforced powerhouse to be located near the outlet structure of the existing penstock; (2) a substation to be located outside the powerhouse on the west side; (3) two unequal-sized turbine-generators for a total installed capacity of between 9.0 megawatts (MW) and 11.5 MW; (4) a proposed 0.5-mile-long, 12.47-kilovolt transmission line interconnecting with an existing Pennsylvania Power and Light transmission line; and (5) appurtenant facilities. The estimated annual generation of the project would range between 13 gigawatt-hours (GWh) and 26 GWh.

Applicant Contact: Mr. Harold Pudliner, Borough of Weatherly, 10 Wilbur Street, Weatherly, PA 18225; phone: (570) 427-8640.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14560-000.

More information about this project, including a copy of the application, can be viewed or printed on the “eLibrary” link of the Commission's Web site at http://www.ferc.gov/docs-filing/elibrary.asp. Enter the docket number (P-14560) in the docket number field to access the document. For assistance, contact FERC Online Support.

Dated: December 19, 2013.
Kimberly D. Bose,
Secretary.

[FR Doc. 2013-30831 Filed 12-24-13; 8:45 am]

BILLING CODE 6717-01-P